DEPARTMENT OF AGRICULTURE

Forest Service

Gauley Ranger District, Monongahela National Forest; West Virginia; Big Rock Project

AGENCY: Forest Service, USDA.

ACTION: Notice of intent to prepare an environmental impact statement.

SUMMARY: The USDA Forest Service, Monongahela National Forest, Gauley Ranger District intends to prepare an environmental impact statement (EIS) to disclose the environmental consequences of a vegetation management project. In the EIS the USDA Forest Service will address the potential environmental impacts due to creating early successional forest; enhancing the growth and mast production of forest stands; and increasing wildlife habitat diversity.

The Big Rock Project is located in the Cranberry River watershed, north of the community of Richwood, in Nicholas and Webster Counties, WV. The 23,490 acres in the project area include an estimated 21,767 acres of National Forest System Land and 1,723 acres of privately-owned land. No activities are proposed on private lands.

DATES: Comments concerning the scope of the analysis should be received or post-marked by September 8, 2014. Comments received or post-marked after this initial scoping period will be considered, but will not afford the commenter standing to file a later objection on the project, unless they are submitted during a future designated comment period. The draft environmental impact statement is expected in March 2015 and the final environmental impact statement is expected in June 2015. A decision is expected in September of 2015.

ADDRESSES: Send written comments to Jane Bard, ID Team Leader, Big Rock Project, 932 North Fork Cherry Rd., Richwood, WV 26261. Comments may also be sent via email to comments-eastern-monongahela-gauley@fs.fed.us, or via facsimile to 304-846-4307. Please list “Big Rock Project” in the subject line and include a mailing address.

FOR FURTHER INFORMATION CONTACT: Jane Bard, ID Team Leader, at jbard@fs.fed.us or 304-846-2695. Office hours are 8 a.m.-4:30 p.m., Eastern Time, Monday through Friday (excluding federal holidays). See ADDRESSES above. Another means of obtaining information is to visit the Forest's projects Web page at: http://www.fs.usda.gov/projects/mnf/landmanagement/projects and then click on “Big Rock”.

Individuals who use telecommunication devices for the deaf (TDD) may call the Federal Information Relay Service (FIRS) at 1-800-877-8339 between 8 a.m. and 4:30 p.m., Eastern Time, Monday through Friday (excluding federal holidays).

SUPPLEMENTARY INFORMATION:

Purpose and Need for Action

The purpose of the Big Rock Project is to implement land management activities that are consistent with the Monongahela National Forest Land and Resource Management Plan (Forest Plan) and will help to bring the Forest closer to the desired condition. The Forest Plan outlines goals, objectives and desired conditions for Forest resources. The Big Rock Project Area is in Management Prescription (MP) 3.0, which emphasizes age class diversity and sustainable timber production; habitat for wildlife species tolerant of disturbances, such as deer, grouse, and squirrel; and a variety of forest scenery (Forest Plan, as updated in 2011, III-4). The desired condition relevant to this project is for a full range of forest age-classes of primarily hardwood trees and associated understories to be distributed in a mosaic pattern, thus providing for the habitat needs of a variety of wildlife species. Harvest of trees is expected to provide sustainably-produced timber to the market. Roads and trails systems provide access for recreation, administration, and management purposes, including transportation of forest products. (Forest Plan, as updated in 2011, III-6 and 7)

The project area is currently composed of approximately one percent early successional forest (0-19 yrs), with over 80% in the mid-late successional age-class (80-120 yrs). In contrast, the Forest-wide MP 3.0 direction for age-class composition is for a range of 12-20% to be maintained in early successional forest and 24-40% to be maintained in mid-late successional forest. In addition, many stands in the project area contain closely-spaced trees. Crowded trees can result in reduced growth, crown size, and mast production due to competition for light, water, and nutrients. Throughout the project area there is a general lack of vernal pools for wildlife. Collectively, these conditions depart from the desired condition and present opportunities to increase wildlife habitat diversity.

Proposed Action

The following actions have been identified to address the needs described above. (1) To meet the need to create early successional forest, conduct commercial regeneration harvest using clearcut with reserves on 1,342 acres. Treatments included in regeneration harvests are pre-harvest vine treatment, site preparation for natural regeneration, designation of wildlife and riparian leave trees, retention of standing dead snag trees, and creation of any required snags by girdling. Herbicides may also be used for snag creation or vine treatment. (2) To meet the need to enhance the growth and mast production of forested stands, conduct commercial thinning harvest on 702 acres using ground based skidding and on 491 acres using helicopter logging. (3) To meet the need to increase wildlife habitat diversity, the vegetation management activities described in numbers 1 and 2 above are proposed. Additional habitat diversity will be created by constructing twenty small vernal pools.

In order to carry out the proposed vegetation management activities, roads, skid trails, and landings will be needed. Therefore, the proposed action includes the construction of 3.7 miles of low standard road. This road mileage would be added to the National Forest System of roads. Associated landings and skid trails would be constructed as well.

Responsible Official

The Responsible Official for this project is the Gauley District Ranger of the Monongahela National Forest.

Nature of Decision To Be Made

Following completion of the EIS, the responsible official will review the proposed action, other alternatives, and environmental consequences in order to decide whether to implement the proposed action as described; to implement an alternative version of this proposal that addresses issues; to defer any action at this time; or to amend the Forest Plan.

Scoping Process

This notice of intent initiates the scoping process, which guides the development of the EIS. In conjunction with this notice, the Forest is notifying the public of the open scoping period by sending letters to those that have indicated interest in this type of project on the Monongahela National Forest. In addition, news releases will be sent to the local newspapers and project information will be posted locally, including at the Gauley Ranger District Office and National Forest campgrounds in the vicinity of the project. A field trip to the project area will be held on August 15, 2014. This field trip will only take place if interest is expressed. Please RSVP to Jane Bard (at contact information contained in ADDRESSES, above), no later than August 7th if you would like to attend the field trip. This field trip is intended for informational purposes only. Those wishing to submit comments on the project in order to gain standing to later file an objection should ensure their specific, written comments have been received or post-marked by the close of the scoping period (September 8, 2014).

A 45-day comment period will be offered on this project in the future when the Draft EIS is available for public review. Specific, written comments submitted during that comment period will also give standing to later submit an objection on the project.

Comments received in response to this solicitation, including names and addresses of those who comment, will be a part of the public record for this proposed action. Comments submitted anonymously will be accepted and considered; however, will not give the commenter standing to file an objection.

Authority: 40 CFR 1501.7, 1506.6, and 1508.22; Forest Service Handbook 1909.15, Chapter 20, Section 22

Dated: July 23, 2014.
William W. Schiffer,
District Ranger.

[FR Doc. 2014-17903 Filed 7-29-14; 8:45 am]

BILLING CODE 3410-15-P